DEPARTMENT OF ENERGY

Federal Energy Regulatory Commission

Notice of Ferc Staff Attendance at Meetings of Southwest Power Pool Regional State Committee, Board Of Directors and Members

April 23, 2004.

The Federal Energy Regulatory Commission hereby gives notice that members of its staff may attend the April 26 and 27, 2004 meetings of the Southwest Power Pool (SPP) Regional State Committee, SPP Board of Directors and SPP Members. The staff's attendance is part of the Commission's ongoing outreach efforts.

The discussions may address matters at issue in the following proceedings:

Docket Nos. RT04-1-000 and ER04-48-000, Southwest Power Pool, Inc.;

Docket No. ER04-434-000, Southwest Power Pool, Inc.;

Docket No. ER04-658-000, Southwest Power Pool, Inc.

The April 26, 2004 SPP Regional State Committee meeting is expected to begin at approximately 2 p.m. The meeting will take place at the Westin Hotel Oklahoma City, One North Broadway, Oklahoma City, OK 73102. The meeting is open to the public.

The April 27, 2004 SPP Board of Directors and SPP Members meetings are expected to begin at approximately 10 a.m. These meetings will take place at the Westin Hotel Oklahoma City, One North Broadway, Oklahoma City, OK 73102. These meetings are open to the public.

For more information, contact Tony Ingram, Office of Markets, Tariffs and Rates, Federal Energy Regulatory Commission at (202) 502-8938 or tony.ingram@ferc.gov.

Magalie R. Salas,
Secretary.

[FR Doc. E4-974 Filed 4-30-04; 8:45 am]

BILLING CODE 6717-01-P